DEPARTMENT OF HOMELAND SECURITY

U.S. Customs and Border Protection

Amendment to Notice of Implementation of Additional Duties on Products of Canada Pursuant to the President's Executive Order 14193, Imposing Duties To Address the Flow of Illicit Drugs Across our Northern Border

AGENCY: U.S. Customs and Border Protection (CBP), Department of Homeland Security.

ACTION: Notice.

SUMMARY: In order to effectuate the President's Executive Order 14193, “Imposing Duties to Address the Flow of Illicit Drugs Across Our Northern Border,” as amended by Executive Order 14197, “Progress on the Situation at Our Northern Border”, and subsequently amended by Executive Order 14226, “Amendment to Duties to Address the Flow of Illicit Drugs Across Our Northern Border”, which imposed specified rates of duty on imports of articles that are products of Canada, and further amended by the President's March 6, 2025 Executive order “Amendment to Duties to Address the Flow of Illicit Drugs Across Our Northern Border,” the Secretary of Homeland Security has determined that appropriate action is needed to modify the Harmonized Tariff Schedule of the United States (HTSUS) as set out in the Annex to this notice.

DATES: The duties set out in the Annex to this document are effective with respect to products of Canada that are entered for consumption, or withdrawn from warehouse for consumption, on or after 12:01 a.m. eastern standard time on March 7, 2025.

FOR FURTHER INFORMATION CONTACT: Brandon Lord, Executive Director, Trade Policy and Programs, Office of Trade, U.S. Customs and Border Protection, (202) 325-6432 or by email at traderemedy@cbp.dhs.gov. C. Shane Campbell, Acting Executive Director, Cargo and Conveyance Security, Office of Field Operations, U.S. Customs and Border Protection, (202) 344-3401 or by email at traderemedy@cbp.dhs.gov.

SUPPLEMENTARY INFORMATION: On January 20, 2025, the President declared a national emergency with respect to the grave threat to the United States posed by the influx of illegal aliens and drugs into the United States in Proclamation 10886 (Declaring a National Emergency at the Southern Border) (90 FR 8327, January 29, 2025). See National Emergencies Act (50 U.S.C. 1601 et seq.) (NEA).

On February 1, 2025, the President expanded the scope of the national emergency declared in that proclamation to cover the threat to safety and security of Americans, including the public health crisis of deaths due to the use of fentanyl and other illicit drugs and the failure of Canada to do more to arrest, seize, detain, or otherwise intercept drug trafficking organizations, other drug and human traffickers, criminals at large, and drugs. In addition, the President determined that this failure to act on the part of Canada constitutes an unusual and extraordinary threat, which has its source in substantial part outside the United States, to the national security and foreign policy of the United States. See Executive Order 14193 (90 FR 9113), dated February 1, 2025.

To address this threat, pursuant to the International Emergency Economic Powers Act (50 U.S.C. 1701 et seq.) (IEEPA), the NEA, section 604 of the Trade Act of 1974, as amended (19 U.S.C. 2483), and 3 U.S.C. 301, the President imposed ad valorem tariffs on all imports that are products of Canada, excluding those encompassed by 50 U.S.C. 1702(b). Specifically, Executive Order 14193 adjusted duties on imported products of Canada, except for imports of energy and energy resources that are products of Canada, by imposing, consistent with law, an additional 25 percent ad valorem rate of duty. With respect to imports of energy and energy resources that are products of Canada, the Executive order imposed, consistent with law, an additional 10 percent ad valorem rate of duty.

On February 3, 2025, the President issued Executive Order 14197, “Progress on the Situation at our Northern Border” (90 FR 9183), which amended Executive Order 14193 by pausing the implementation of the additional duties for 30 days until March 4, 2025, to allow time to assess whether actions taken by Canada as of that date were sufficient to alleviate the crisis and resolve the unusual and extraordinary threat beyond our southern border. Additionally, Executive Order 14197 withdrew the exceptions in section 2(a) of Executive Order 14193 related to covered goods loaded onto a vessel at a port of entry or in transit on the final mode of transport prior to entry into the United States.

Subsequently, on March 2, 2025, the President amended subsection (h) of section 2 of Executive Order 14193, to modify the application of 19 U.S.C. 1321 to goods covered by subsection (a) and subsection (b) of section 2 of Executive Order 14193. See Executive Order 14226, “Amendment to Duties to Address the Flow of Illicit Drugs Across Our Northern Border” (March 2, 2025) (90 FR 11369, March 6, 2025). Specifically, as amended, subsection (h) of section 2 of Executive Order 14193 provides that duty-free de minimis treatment under 19 U.S.C. 1321 is available for otherwise eligible covered articles described in the Executive order, but shall cease to be available for such articles upon notification by the Secretary of Commerce to the President that adequate systems are in place to fully and expediently process and collect tariff revenue applicable pursuant to subsection (a) and subsection (b) of section 2 of the Executive order for covered articles otherwise eligible for de minimis treatment.

On March 6, 2025, the President signed Executive order “Amendment to Duties to Address the Flow of Illicit Drugs Across Our Northern Border.” In that Executive order, the President determined that automotive production is a major source of U.S. employment and innovation and integral to U.S. economic and national security. The American automotive industry as currently structured often trades substantial volumes of automotive parts and components across our borders in the interest of bringing supply chains closer to North America. In order to minimize disruption to the U.S. automotive industry and automotive workers, the President determined that it is appropriate to adjust tariffs imposed on articles of Canada. Accordingly, articles that are entered free of duty as originating in Canada under the terms of general note 11 to the Harmonized Tariff Schedule of the United States (HTSUS), including any treatment set forth in subchapter XXIII of chapter 98 and subchapter XXII of chapter 99 of the HTSUS, as related to the Agreement between the United States of America, United Mexican States, and Canada (USMCA), shall not be subject to the additional ad valorem rate of duty described in section 2(a) or section 2(b) of Executive Order 14193.

Furthermore, the additional ad valorem rate of duty described in Executive Order 14193 is reduced from 25% to 10% for potash that does not qualify for duty-free treatment under the USMCA, but is a product of Canada, in accordance with the March 6, 2025 Executive order. All other products of Canada that do not qualify for duty-free treatment under the USMCA shall remain subject to the rates set forth in Executive Order 14193 (unless otherwise exempted).

Executive Order 14193 directed the Secretary of Homeland Security to determine and implement the necessary modifications to the Harmonized Tariff Schedule of the United States (HTSUS), consistent with law, in order to effectuate the Executive order, as amended by Executive Order 14197, Executive Order 14226, and the March 6, 2025 Executive order.

As such, this notice is revising the March 3, 2025 CBP Federal Register Notice titled “Notice of Implementation of Additional Duties on Products of Canada Pursuant to the President's Executive Order 14193, Imposing Duties to Address the Flow of Illicit Drugs Across Our Northern Border” (90 FR 11423, March 6, 2025) to implement the rates of duty imposed by the Executive order, as amended, effective on 12:01 a.m. eastern standard time on March 7, 2025, subchapter III of chapter 99 of the HTSUS is modified by the Annex to this notice.

Articles that are entered free of duty as originating under the terms of general note 11 to the HTSUS, including any treatment set forth in subchapter XXIII of chapter 98 and subchapter XXII of chapter 99 of the HTSUS, as related to USMCA, will not be subject to the additional ad valorem rate of duty provided for in HTSUS heading 9903.01.10, as specified in new HTSUS heading 9903.01.14. Potash not qualifying for duty-free treatment under the USMCA, but which is a product of Canada, that is entered for consumption, or withdrawn from warehouse for consumption, on or after 12:01 a.m. eastern standard time on March 7, 2025, will be subject to the reduced additional 10% ad valorem rate of duty provided for in HTSUS heading 9903.01.15, instead of the 25% ad valorem rate provided for in HTSUS heading 9903.01.10.

Imported products of Canada that are encompassed by 50 U.S.C. 1702(b) will not be subject to the additional ad valorem duty rates provided for in new HTSUS heading 9903.01.15 such qualifying products, other than products for personal use included in accompanied baggage of persons arriving in the United States, must be declared and entered under HTSUS heading 9903.01.11 or HTSUS heading 9903.01.12, as applicable. Specifically, HTSUS heading 9903.01.11 covers products encompassed by 50 U.S.C. 1702(b)(2) and HTSUS heading 9903.01.12 covers products encompassed by 50 U.S.C. 1702(b)(3).¹

¹ 50 U.S.C. 1702(b)(1) covers “postal, telegraphic, telephonic, or other personal communication[s], which do[ ] not involve a transfer of anything of value,” and hence does not encompass any imported articles of merchandise. 50 U.S.C. 1702(b)(4) covers “transactions ordinarily incident to travel to or from any country, including [1] importation of accompanied baggage for personal use, [2] maintenance within any country including payment of living expenses and acquisition of goods or services for personal use, and [3] arrangement or facilitation of such travel including nonscheduled air, sea, or land voyages.” Only the first of the three categories of exceptions covered by 50 U.S.C. 1702(b)(4)—products for personal use included in accompanied baggage of persons arriving in the United States—encompasses imported articles of merchandise, and such articles are excluded from the scope of the additional ad valorem duties provided for in new HTSUS headings 9903.01.14 and 9903.01.15 by the terms of those headings and new U.S. note 2(j).

The additional ad valorem duty provided for in new HTSUS heading 9903.01.15 applies in addition to all other applicable duties, taxes, fees, exactions, and charges.

Further, pursuant to Executive Order 14226, the administrative exemption from duty and certain taxes at 19 U.S.C. 1321(a)(2)(C)—known as the “de minimis” exemption—continues to be available for articles covered by HTSUS headings 9903.01.14 and 9903.01.15 that are otherwise eligible for the exemption, including for eligible articles sent to the United States through the international postal network, but shall cease to be available for such articles upon notification by the Secretary of Commerce to the President that adequate systems are in place to fully and expediently process and collect tariff revenue applicable to articles covered by HTSUS headings 9903.01.14 and 9903.01.15 otherwise eligible for the “de minimis” exemption. Accordingly, articles that are products of Canada that are eligible for the de minimis exemption and are covered by HTSUS headings 9903.01.14 and 9903.01.15 may continue to request de minimis entry and clearance until such time as the Secretary of Commerce, in consultation with the Secretary of the Treasury, so notifies the President and further guidance is provided.

The additional ad valorem duty provided for in new HTSUS heading 9903.01.15 also applies to products of Canada that are eligible for temporary duty exemptions or reductions under subchapter II to chapter 99, shall be subject to the additional ad valorem rate of duty imposed by HTSUS heading 9903.01.15.

The additional duties imposed by HTSUS heading 9903.01.15 shall not apply to goods for which entry is properly claimed under a provision of chapter 98 of the tariff schedule pursuant to applicable regulations of CBP, and whenever CBP agrees that entry under such a provision is appropriate, except for goods entered under subheading 9802.00.80; and subheadings 9802.00.40, 9802.00.50, and 9802.00.60. For subheadings 9802.00.40, 9802.00.50, and 9802.00.60, the additional duties apply to the value of repairs, alterations, or processing performed (in Canada), as described in the applicable subheading. For heading 9802.00.80, the additional duties apply to the value of the article assembled abroad (in Canada), less the cost or value of such products of the United States, as described.

The Annex to this notice also provides that products of Canada include both goods of Canada under the rules set forth in part 102, title 19 of the Code of Federal Regulations, as applicable, as well as goods for which Canada was the last country of substantial transformation prior to importation into the United States.

Articles that are products of Canada, excluding those encompassed by 50 U.S.C. 1702(b), except those that are eligible for admission to a foreign trade zone under “domestic status” as defined in 19 CFR 146.43, and are admitted into a United States foreign trade zone on or after 12:01 a.m. eastern standard time on March 4, 2025, must be admitted as “privileged foreign status” as defined in 19 CFR 146.41. Such articles will be subject, upon entry for consumption, to the duties imposed by the Executive order, as amended, and the rates of duty related to the classification under the applicable HTSUS heading or subheading in effect at the time of admission into the United States foreign trade zone.

No drawback shall be available with respect to the additional duties imposed pursuant to the Executive orders.

Kristi Noem,
Secretary.

Annex

To Modify Chapter 99 of the Harmonized Tariff Schedule of the United States

1. Effective with respect to goods entered for consumption, or withdrawn from warehouse for consumption, on or after 12:01 a.m. eastern standard time on March 7, 2025, subdivision (j) of note 2 to subchapter III of chapter 99 of the Harmonized Tariff Schedule of the United States (HTSUS) is modified by deleting “and heading 9903.11.13,” and by inserting “9903.01.13, 9903.01.14, and 9902.01.15” in lieu thereof. Subdivision (j) of note 2 to subchapter III of chapter 99 of HTSUS is also modified with respect to heading 9903.01.10 by deleting “other than products described in headings 9903.01.11, 9903.01.12 and 9903.01.13,” and by inserting “other than products described in headings 9903.01.11, 9903.01.12, 9903.01.13, 9903.01.14, and 9903.01.15,” in lieu thereof.

2. The heading 9903.01.10 is modified by deleting “except for products described in headings 9903.01.11, 9903.01.12, and heading 9903.01.13,” and by inserting “except for products described in headings 9903.01.11, 9903.01.12, 9903.01.13, 9903.01.14, and 9903.01.15,” in lieu thereof.

3. The heading 9903.01.13 is modified by deleting “except for products described in headings 9903.01.11 and 9903.01.12,” and by inserting “except for products described in headings 9903.01.11, 9903.01.12, 9903.01.14 and 9903.01.15.”

4. Effective with respect to goods entered for consumption, or withdrawn from warehouse for consumption on or after 12:01 a.m. eastern standard time on March 7, 2025, note 2 to subchapter III of chapter 99 of the HTSUS is modified by inserting the following new subdivision (l):

“(l) For the purposes of heading 9903.01.15, products of Canada, other than products described in headings 9903.01.11, 9903.01.12, and 9903.01.14, and other than products for personal use included in accompanied baggage of persons arriving in the United States, shall be subject to an additional 10% ad valorem rate of duty. Notwithstanding U.S. note 1 to this subchapter, all products of Canada that are subject to the additional ad valorem rate of duty imposed by heading 9903.01.15 shall also be subject to the general rates of duty imposed on products of Canada entered under subheadings in chapters 1 to 97 of the tariff schedule.

The additional duties imposed by heading 9903.01.15 apply to products of Canada including both goods of Canada under the rules set forth in part 102, title 19 of the Code of Federal Regulations, as applicable, as well as goods for which Canada was the last country of substantial transformation prior to importation into the United States.

Products of Canada that are eligible for temporary duty exemptions or reductions under subchapter II to chapter 99, shall be subject to the additional ad valorem rate of duty imposed by heading 9903.01.15.

The additional duties imposed by heading 9903.01.15 shall not apply to goods for which entry is properly claimed under a provision of chapter 98 of the tariff schedule pursuant to applicable regulations of U.S. Customs and Border Protection (“CBP”), and whenever CBP agrees that entry under such a provision is appropriate, except for goods entered under heading 9802.00.80; and subheadings 9802.00.40, 9802.00.50, and 9802.00.60. For subheadings 9802.00.40, 9802.00.50, and 9802.00.60, the additional duties apply to the value of repairs, alterations, or processing performed (in Canada), as described in the applicable subheading. For heading 9802.00.80, the additional duties apply to the value of the article assembled abroad (in Canada), less the cost or value of such products of the United States, as described.

Products of Canada that are provided for in heading 9903.01.15 shall continue to be subject to antidumping, countervailing, or other duties, taxes, fees, exactions and charges that apply to such products, as well as to the additional ad valorem rate of duty imposed by heading 9903.01.15.

Products of Canada that are provided for in headings 9903.01.14 and 9903.01.15 that are otherwise eligible for the administrative exemption from duty and certain taxes at 19 U.S.C. 1321(a)(2)(C)—known as the “de minimis” exemption—may continue to qualify for the exemption, but the de minimis exemption shall cease to be available for such articles upon notification by the Secretary of Commerce, in consultation with the Secretary of the Treasury, to the President that adequate systems are in place to fully and expediently process and collect tariff revenue applicable for covered articles otherwise eligible for the de minimis exemption.”

5. Effective with respect to goods entered for consumption, or withdrawn from warehouse for consumption, on or after 12:01 a.m. eastern standard time on March 7, 2025, the article description of heading 9903.01.10 is modified by deleting “9903.01.12 or, 9903.01.13,” and by inserting “9903.01.12, 9903.01.13, 9903.01.14 or 9903.01.15,” in lieu thereof.

6. Effective with respect to goods entered for consumption, or withdrawn from warehouse for consumption, on or after 12:01 a.m. eastern standard time on March 7, 2025, subchapter III of chapter 99 of the HTSUS is modified by inserting new headings 9903.01.14 and 9903.01.15 in numerical sequence, with the material in the new heading inserted in the columns of the HTSUS labeled “Heading/Subheading”, “Article Description”, “Rates of Duty 1—General”, “Rates of Duty 1—Special” and “Rates of Duty 2”, respectively:

Heading/subheading | Article description | Rates of duty: 1: General | Rates of duty: 1: Special | Rates of duty: 2
“9903.01.14 | Articles that are entered free of duty under the terms of general note 11 to the HTSUS, including any treatment set forth in subchapter XXIII of chapter 98 and subchapter XXII of chapter 99 of the HTS, as related to the USMCA | No change | The duty provided in the applicable subheading | No change.
9903.01.15 | Potash that is a product of Canada, as provided for in U.S. note 2(I) to this subchapter | The duty provided in the applicable subheading + 10% | No change | No change”.

[FR Doc. 2025-03901 Filed 3-6-25; 7:00 pm]

BILLING CODE 9111-14-P